DEPARTMENT OF DEFENSE

Department of the Army; Corps of Engineers

Intent to Prepare a Draft Environmental Impact Statement (DEIS) for the Construction of a Proposed Disposal Site for Dredged Material in the Middle Branch of the Patapsco River, at Masonville, Baltimore City/Application for a Corps Section 10/404 Individual Permit

Correction

In notice document 05-10543 beginning on page 30421 in the issue of Thursday, May 26, 2005, make the following corrections:

1. On page 30422, in the first column, under the heading “for further information contact”, in the 8th line, “410-972-6079” should read “410-962-6079”.

2. On the same page, in the second column, in the first line, after “material”, insert “as soon as the end of the 2007 dredging season and a shortfall in Harbor dredged material”.

[FR Doc. C5-10543 Filed 5-31-05; 8:45 am]

BILLING CODE 1505-01-D